DEPARTMENT OF THE INTERIOR

Fish and Wildlife Service

Notice of Availability of a Draft Recovery Plan for the Pacific Coast Population of the Western Snowy Plover for Review and Comment

AGENCY: U.S. Fish and Wildlife Service, Interior.

ACTION: Notice of document availability.

SUMMARY: The U.S. Fish and Wildlife Service (Service) announces the availability for public review of the Draft Recovery Plan for the Pacific Coast Population of the Western Snowy Plover. This recovery plan covers the threatened Pacific coast population of the western snowy plover (Charadrius alexandrinus nivosus). The draft plan includes recovery criteria and measures for the Pacific coast population of the western snowy plover.

DATES: Comments on the draft recovery plan must be received on or before December 12, 2001.

ADDRESSES: Copies of the draft recovery plan are available for inspection, by appointment, during normal business hours at the following location: U.S. Fish and Wildlife Service, Sacramento Fish and Wildlife Office, 2800 Cottage Way, Room W-2605, Sacramento, California (telephone (916) 414-6600); and U.S. Fish and Wildlife Service, Regional Office, Ecological Services, 911 N.E. 11th Avenue, Eastside Federal Complex, Portland Oregon 97232-4181 (telephone (503) 231-6131). Requests for copies of the draft recovery plan and written comments and materials regarding this plan should be addressed to Wayne S. White, Field Supervisor, Ecological Services, at the above Sacramento address.

FOR FURTHER INFORMATION CONTACT: Carmen Thomas or Ina Pisani, Fish and Wildlife Biologists, at the above Sacramento address.

SUPPLEMENTARY INFORMATION:

Background

Restoring endangered or threatened animals and plants to the point where they are again secure, self-sustaining members of their ecosystems is a primary goal of the Service's endangered species program. To help guide the recovery effort, the Service is working to prepare recovery plans for most of the listed species native to the United States. Recovery plans describe actions considered necessary for the conservation of the species, establish criteria for downlisting or delisting listed species, and estimate time and cost for implementing the recovery measures needed.

The Endangered Species Act of 1973, as amended (16 U.S.C. 1531 et seq.) (Act), requires the development of recovery plans for listed species unless such a plan would not promote the conservation of a particular species. Section 4(f) of the Act as amended in 1988 requires that public notice and an opportunity for public review and comment be provided during recovery plan development. The Service will consider all information presented during the public comment period prior to approval of each new or revised recovery plan. Substantive technical comments will result in changes to the plan. Substantive comments regarding recovery plan implementation may not necessarily result in changes to the recovery plan, but will be forwarded to appropriate Federal or other entities so that they can take these comments into account during the course of implementing recovery actions. Individual responses to comments will not be provided.

The Pacific coast western snowy plover (Charadrius alexandrinus nivosus) breeding population currently extends from Damon Point, Washington, to Bahia Magdalena, Baja California, Mexico. Snowy plovers (Pacific coast population) breed primarily above the high tide line on coastal beaches, sand spits, dune-backed beaches, sparsely-vegetated dunes, beaches at creek and river mouths, and salt pans at lagoons and estuaries. Less common nesting habitats include bluff-backed beaches, dredged material disposal sites, salt pond levees, dry salt ponds, and river bars. The snowy plover winters mainly in coastal areas from southern Washington to Central America. In winter, snowy plovers are found on many of the beaches used for nesting as well as beaches where they do not nest, in man-made salt ponds, and on estuarine sand and mud flats. Habitat degradation caused by human disturbance, urban development, introduced beachgrass (Ammophila spp.), and expanding predator populations have resulted in a decline in active nesting areas and in the size of the breeding and wintering populations.

The primary objective of this recovery plan is to remove the Pacific coast western snowy plover population from the List of Endangered and Threatened Wildlife and Plants by achieving well-distributed increases in numbers and productivity of breeding adult birds, and providing for long-term protection of breeding and wintering plovers and their habitat. Specific actions needed to achieve this objective include (1) protection of breeding and wintering habitat; (2) monitoring and managing breeding habitat; (3) monitoring and managing wintering and migration areas; (4) undertaking scientific research that facilitates recovery efforts; (5) public participation, outreach and education; and (6) establishing an international conservation program with the Mexican government to protect snowy plovers and their breeding and wintering locations in Mexico.

Public Comments Solicited

The Service solicits written comments on the recovery plan described. All comments received by the date specified above will be considered prior to approval of this plan.

Below is a schedule of public outreach workshops:

September 18: Santa Barbara, California, at the Radisson Hotel from 1-3 and 6-8 p.m.

September 19: South Bend, Washington, at the South Bend Community Center from 1-3 and 7-9 p.m.

September 24: Marin City, California, at the Marin City High School auditorium from 1-3 and 6-8 p.m.

September 25: Monterey, California, at the Monterey Conference Center from 1-3 and 6-8 p.m. Bandon, Oregon, at the Barn Community Center from 6-8 p.m.

September 26: Florence, Oregon, at the Convention Center from 6-8 p.m.

September 27: San Luis Obispo, California, at the Embassy Suites Hotel, from 1-3 and 6-8 p.m.

October 3 Arcata, California, at the Arcata Community Center from 3-5 and 7-9 pm.

Authority: The authority for this action is section 4(f) of the Endangered Species Act, 16 U.S.C. 1533(f).

Dated: August 7, 2001.
John Engbring,
Acting Manager, California/Nevada Operations Office, Region 1, U.S. Fish and Wildlife Service.

[FR Doc. 01-20374 Filed 8-13-01; 8:45 am]

BILLING CODE 4310-55-P